DEPARTMENT OF HEALTH AND HUMAN SERVICES

Centers for Disease Control and Prevention

Mine Safety and Health Research Advisory Committee: Meeting

In accordance with section 10(a)(2) of the Federal Advisory Committee Act (Pub. L. 92-463), the Centers for Disease Control and Prevention (CDC) announces the following committee meeting.

Name: Mine Safety and Health Research Advisory Committee (MSHRAC).

Time and Date: 8 a.m.-4 p.m., November 7, 2002.

Place: Washington Court Hotel on Capitol Hill, 525 New Jersey Avenue, NW., Washington DC 20001, telephone (202) 628-2100, fax (202) 879-7938.

Status: Open to the public, limited only by the space available. The meeting room accommodates approximately 35 people.

Purpose: This committee is charged with providing advice to the Secretary, Department of Health and Human Services; the Director, CDC; and the Director, NIOSH, on priorities in mine safety and health research, including grants and contracts for such research, 30 U.S.C. 812(b)(2), Section 102(b)(2).

Matters to Be Discussed: Agenda for this meeting will focus on reports from the Director, NIOSH and Associate Director of Mining, training and worker education, emergency response and rescue, National Personal Protective Technology Lab, extramural research, and future activities.

Agenda items are subject to change as priorities dictate.

Contact Person for More Information: Lewis V. Wade, Ph.D., Executive Secretary, MSHRAC, NIOSH, CDC, 200 Independence Avenue, SW., Room 715-H, Hubert Humphrey Building, P12 Washington, DC 20201-0004, telephone 202/401-2192, fax 202/260-4464.

The Director, Management Analysis and Services Office, has been delegated the authority to sign Federal Register notices pertaining to announcements of meetings and other committee management activities for both the Centers for Disease Control and Prevention and the Agency for Toxic Substances and Disease Registry.

Dated: October 10, 2002.
Burma Burch,
Acting Director, Management Analysis and Services Office, Centers for Disease Control and Prevention.

[FR Doc. 02-26377 Filed 10-16-02; 8:45 am]

BILLING CODE 4163-19-P